DEPARTMENT OF ENERGY

Federal Energy Regulatory Commission

Combined Notice of Filings

September 30, 2020.

Take notice that the Commission has received the following Natural Gas Pipeline Rate and Refund Report filings:

Docket Number: PR20-75-000.

Applicants: Mid Continent Market Center, L.L.C.

Description: Tariff filing per 284.123(b)(1)+(g): MCMC 2020 Periodic Rate Review to be effective 10/1/2020 under PR20-75.

Filed Date: 9/28/2020.

Accession Number: 202009285114.

Comments Due: 5 p.m. ET 10/19/2020.

284.123(g) Protests Due: 5 p.m. ET 11/27/2020.

Docket Numbers: RP20-1230-000.

Applicants: Tuscarora Gas Transmission Company.

Description: Compliance filing 2020 Fuel and Line Loss Report.

Filed Date: 9/29/20.

Accession Number: 20200929-5041.

Comments Due: 5 p.m. ET 10/13/20.

Docket Numbers: RP20-1231-000.

Applicants: Stagecoach Pipeline & Storage Company LLC.

Description: § 4(d) Rate Filing: Stagecoach Pipeline & Storage Company LLC—Filing of Negotiated Rate Agreement to be effective 11/1/2020.

Filed Date: 9/29/20.

Accession Number: 20200929-5073.

Comments Due: 5 p.m. ET 10/13/20.

Docket Numbers: RP20-1232-000.

Applicants: El Paso Natural Gas Company, L.L.C.

Description: § 4(d) Rate Filing: Negotiated Rate Agreement Update (Conoco Oct 20) to be effective 10/1/2020.

Filed Date: 9/29/20.

Accession Number: 20200929-5079.

Comments Due: 5 p.m. ET 10/13/20.

Docket Numbers: RP20-1234-000.

Applicants: Southern Star Central Gas Pipeline, Inc.

Description: § 4(d) Rate Filing: Vol. 2- Negotiated Rate Agreements—Spotlight, Tenaska, Conexus to be effective 9/29/2020.

Filed Date: 9/29/20.

Accession Number: 20200929-5109.

Comments Due: 5 p.m. ET 10/13/20.

Docket Numbers: RP20-1235-000.

Applicants: Algonquin Gas Transmission, LLC.

Description: § 4(d) Rate Filing: Negotiated Rates—Bay State to UGI Releases to be effective 10/1/2020.

Filed Date: 9/29/20.

Accession Number: 20200929-5122.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2020.
Nathaniel J. Davis, Sr.,
Deputy Secretary.

[FR Doc. 2020-22037 Filed 10-5-20; 8:45 am]

BILLING CODE 6717-01-P